DEPARTMENT OF HEALTH AND HUMAN SERVICES

Centers for Medicare & Medicaid Services

42 CFR Parts 412, 413, 414, 419, 424, 482, 485, and 489

[CMS-1599-CN4]

RIN 0938-AR53

Medicare Program; Hospital Inpatient Prospective Payment Systems for Acute Care Hospitals and the Long-Term Care Hospital Prospective Payment System and Fiscal Year 2014 Rates; Quality Reporting Requirements for Specific Providers; Hospital Conditions of Participation; Payment Policies Related to Patient Status; Corrections

AGENCY: Centers for Medicare & Medicaid Services (CMS), HHS.

ACTION: Final rule; correction.

SUMMARY: This document corrects technical errors in the correcting document that appeared in the January 2, 2014 Federal Register entitled “Medicare Program; Hospital Inpatient Prospective Payment Systems for Acute Care Hospitals and the Long-Term Care Hospital Prospective Payment System and Fiscal Year 2014 Rates; Quality Reporting Requirements for Specific Providers; Hospital Conditions of Participation; Payment Policies Related to Patient Status; Corrections.”

DATES: Effective Date: This correcting document is effective January 8, 2014.

Applicability Date: This correcting document is applicable on January 1, 2014.

FOR FURTHER INFORMATION CONTACT: Tzvi Hefter, (410) 786-4487.

SUPPLEMENTARY INFORMATION:

I. Background

In the August 19, 2013 Federal Register (78 FR 50495), we published a final rule entitled “Medicare Program; Hospital Inpatient Prospective Payment Systems for Acute Care Hospitals and the Long Term Care Hospital Prospective Payment System and Fiscal Year 2014 Rates; Quality Reporting Requirements for Specific Providers; Hospital Conditions of Participation; Payment Policies Related to Patient Status” (hereinafter referred to as the FY 2014 IPPS/LTCH PPS final rule). To correct typographical and technical errors in the FY 2014 IPPS/LTCH PPS final rule, we published correcting documents that appeared in the October 3, 2013 Federal Register (78 FR 61197) and the January 2, 2014 Federal Register (79 FR 61). We left out Code of Federal Regulations (CFR) part numbers from the heading and left out the applicability date from the DATES section of the January 2, 2014 correcting document. Therefore, in this correcting document, we add the omitted CFR part numbers and the applicability date.

II. Summary of Errors

On page 61 of the January 2, 2014 correcting document (79 FR 61), we inadvertently omitted some CFR part numbers from the heading, and inadvertently omitted the applicability date from the DATES section.

III. Waiver of Proposed Rulemaking and Delay of Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

In our view, this correcting document does not constitute a rulemaking that would be subject to the APA notice and comment or delayed effective date requirements. This correcting document simply adds the CFR part numbers and the applicability date that were inadvertently omitted and does not make substantive changes to the policies or payment methodologies that were adopted in the final rule.

In addition, even if this were a rulemaking to which the notice and comment procedures and delayed effective date requirements applied, we find that there is good cause to waive such requirements. Undertaking further notice and comment procedures to incorporate the corrections in this document into the January 2, 2014 correcting document (which corrected the FY 2014 IPPS/LTCH final rule) or delaying the effective date would be contrary to the public interest, because it is in the public's interest for providers to receive appropriate payments in as timely a manner as possible. Furthermore, such procedures would be unnecessary, as we are not altering the policies that were already subject to comment and finalized in our final rule, but rather, we are simply adding the CFR part numbers and applicability date that were inadvertently omitted. Therefore, we find good cause to waive the notice and comment and effective date requirements.

IV. Correction of Errors

In FR Doc. 2013-31432 of January 2, 2014 (79 FR 61), make the following corrections:

1. On page 61, in the heading, the CFR citation “42 CFR Parts 412, 482, 485, and 489” is corrected to read “42 CFR Parts 412, 413, 414, 419, 424, 482, 485, and 489”.

2. On page 61, in the DATES section, the caption and sentence, “DATES: Effective Date: This correcting document is effective on January 2, 2014.” are corrected to read as follows:

“DATES: Effective Date: This correcting document is effective January 2, 2014.

Applicability Date: This correcting document is applicable on January 1, 2014.”

(Catalog of Federal Domestic Assistance Program No. 93.773, Medicare—Hospital Insurance; and Program No. 93.774, Medicare—Supplementary Medical Insurance Program)

Dated: January 7, 2014.
Jennifer Cannistra,
Executive Secretary to the Department, Department of Health and Human Services.

[FR Doc. 2014-00273 Filed 1-8-14; 4:15 pm]

BILLING CODE 4120-01-P